DEPARTMENT OF JUSTICE

[OMB Number 1110-0011]

Agency Information Collection Activities; Proposed eCollection eComments Requested; Revision of a Previously Approved Collection; Title—ViCAP National Crime Database

AGENCY: Federal Bureau of Investigation, Department of Justice.

ACTION: 30-Day notice.

SUMMARY: The Department of Justice (DOJ), Federal Bureau of Investigation (FBI), Critical Incident Response Group (CIRG), will be submitting the following information collection request to the Office of Management and Budget (OMB) for review and approval in accordance with the Paperwork Reduction Act of 1995.

DATES: Comments are encouraged and will be accepted for 30 days until December 22, 2025.

FOR FURTHER INFORMATION CONTACT: If you have additional comments especially on the estimated public burden or associated response time, suggestions, or need a copy of the proposed information collection instrument with instructions or additional information, please contact Nathan Graham, Program Manager, Federal Bureau of Investigation, Critical Incident Response Group, FBI Academy, Quantico, VA 22135, (703) 632-4309, nsgraham@fbi.gov.

SUPPLEMENTARY INFORMATION: The proposed information collection was previously published in the Federal Register on September 17, 2025, allowing a 60-day comment period. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1110-0011. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Abstract: ViCAP is a unit of the Federal Bureau of Investigation (FBI) responsible for the analysis of serial violent and sexual crimes. The ViCAP National Crime Database maintains the largest investigative repository of major violent crime cases in the U.S. It is designed to collect and analyze information about Homicides (and attempts) that are known or suspected to be part of a series and/or are apparently random or sexually oriented; Sexual Assaults that are known or suspected to be part of a series and/or are committed by a stranger; Missing Persons where the circumstances indicate a strong possibility of foul play and the victim is still missing; and Unidentified Human Remains where the manner of death is known or suspected to be homicide.

Overview of This Information Collection

1. Type of Information Collection: Revision of a previously approved collection.

2. Title of the Form/Collection: ViCAP National Crime Database.

3. Agency form number, if any, and the applicable component of the Department of Justice sponsoring the collection: N/A.

4. Affected public who will be asked or required to respond:

Affected Public: State, local and tribal governments.

5. Obligation to Respond: Voluntary.

6. Total Estimated Number of Respondents: 5,700 respondents.

7. Estimated Time per Respondent: 20 minutes.

8. Frequency: Users decide how often to respond, for the purposes of calculating burden hours: once annually.

9. Total Estimated Annual Time Burden: The total annual burden hours for this collection is approximately 1,900 burden hours (5,700 × 20 min/60 = 1,900).

10. Total Estimated Annual Other Costs Burden: $0.

If additional information is required, contact: Darwin Arceo, Department Clearance Officer, Enterprise Portfolio Management, Justice Management Division, United States Department of Justice, Two Constitution Square, 145 N Street NE, 4W-218 Washington, DC 20530.

Dated: November 17, 2025.
Darwin Arceo,
Department Clearance Officer for PRA, U.S. Department of Justice.

[FR Doc. 2025-20353 Filed 11-19-25; 8:45 am]

BILLING CODE 4410-18-P